DEPARTMENT OF HEALTH AND HUMAN SERVICES

Centers for Disease Control and Prevention

National Center for Environmental Health/Agency for Toxic Substances and Disease Registry (NCEH/ATSDR); Notice of National Conversation on Public Health and Chemical Exposures Leadership Council Meeting

Time and Date: 8:30 a.m.-5 p.m., Friday, March 11, 2011.

Location: Washington Plaza Hotel, 10 Thomas Circle, NW., Washington, DC 20005.

Status: Open to the public, on a first come, first served basis, limited by the space available. An opportunity for the public to listen to the meeting by phone may be provided; see “contact for additional information” below.

Purpose: This is the final scheduled meeting of the National Conversation on Public Health and Chemical Exposures Leadership Council. The National Conversation on Public Health and Chemical Exposures is a collaborative initiative through which many organizations and individuals are helping develop an action agenda for strengthening the nation's approach to protecting the public's health from harmful chemical exposures. The Leadership Council provides overall guidance to the National Conversation project and will be responsible for issuing the final action agenda. For additional information on the National Conversation on Public Health and Chemical Exposures, visit this Web site: http://www.atsdr.cdc.gov/nationalconversation/.

Meeting agenda: The Leadership Council will finalize the Action Agenda.

Contact for additional information: If you would like to receive additional information on attending the meeting or the potential opportunity to listen to the meeting by phone, please contact: nationalconversation@cdc.gov or Julie Fishman at 770-488-0629.

Dated: February 9, 2011.
Tanja Popovic,
Deputy Associate Director for Science, Centers for Disease Control and Prevention.

[FR Doc. 2011-3654 Filed 2-17-11; 8:45 am]

BILLING CODE 4163-18-P